DEPARTMENT OF HEALTH AND HUMAN SERVICES

Centers for Disease Control and Prevention

[60Day-15-15BM]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Assessing the Impact of Organizational and Personal Antecedents on Proactive Health/Safety Decision Making—New—National Institute for Occupational Safety and Health (NIOSH), Centers for Disease Control and Prevention (CDC).

Background and Brief Description

NIOSH, under Public Law 91-596, Sections 20 and 22 (Section 20-22, Occupational Safety and Health Act of 1977) has the responsibility to conduct research relating to innovative methods, techniques, and approaches dealing with occupational safety and health problems.

This research relates to the interplay of personal, organizational, and cultural influences on risk-taking and proactive decision-making behaviors among mine workers. Proactive behavior refers to taking initiative to improve current conditions, adapting to present conditions, being self-starting and taking charge, and overcoming barriers to being safer. However, the antecedents, or characteristics, that impact these behaviors are not well understood in mining. Understanding the degree to which antecedents influence decisions can inform the focus of future health and safety management interventions.

NIOSH proposes a project that seeks to empirically understand the factors and conditions that contribute to mine workers' safe decisions (or lack thereof) while completing job tasks. The following question guides this study:

What are the most important organizational and personal antecedent characteristics needed to support worker health and safety (H&S) performance behaviors in the mining industry?

To answer the above question, NIOSH researchers developed a psychometrically supported survey. Researchers identified seven worker perception-based `organizational values' and four `personal characteristics' that are presumed to be important in fostering H&S knowledge, motivation, proactive behaviors, and safety outcomes. Because these emergent, worker perception-based constructs have a theoretical and empirical history, psychometrically tested items exist for each of them.

The organizational values found to positively impact proactive safety/health behavior at work include:

• Supervisor Support: The degree to which supervisors value workers' contribution to the organization and care about their personal wellbeing.

• Supervisory Detection of Safety Behaviors: The degree to which supervisors emphasize the health and safety of their workers during job tasks.

• Organizational Detection of Safety Behaviors: The degree of priority assigned to safety within the organization.

• Perception of Adequate Safety Training: The degree to which employees are provided occupational safety training that covers aspects of safety-related knowledge, competence, and behavior.

• Employee Involvement: The degree to which the organization is willing to involve workers in decision-making processes about procedures that influence their work.

• Vertical Communication: The degree to which downward sharing of safety information occurs as well as the ease with which workers can communicate with their supervisors and managers about workplace H&S issues.

• Horizontal Communication: The degree to which employees communicate with and trust their coworkers.

The personal characteristics found to influence safety/health proactive work behavior include:

• Change Orientation: The degree to which an individual feels that he or she is personally obligated to bring about constructive change.

• Locus of Control: The extent to which people attribute rewards at work to their own behavior.

• Conscientiousness: The degree of self-discipline workers possess related to their safety/health work tasks.

• Risk Propensity: The individuals' general tendency to engage in risks/risky situations at work.

Even though all scales used to complete the survey were deemed valid, NIOSH researchers will revalidate each scale to ensure that measurement is valid. A quantitative approach, via a short survey, allows for prioritization, based on statistical significance, of the antecedents that have the most critical influence on proactive behaviors. Data collection will take place with approximately 800 mine workers over three years. The respondents targeted for this study include any active mine worker at a mine site, both surface and underground. It is estimated that a sample of up to 800 surveys will be collected from participants at various mining operations which have agreed to participate. All participants will be between the ages of 18 and 75, currently employed, and living in the United States. Participation will require no more than 20 minutes of workers' time (5 minutes for consent and 15 minutes for the survey). The total estimated annualized burden hours are 90. There is no cost to respondents other than their time.

Upon collection of the data, it will be used to answer what organizational/personal characteristics have the biggest impact on proactive and compliant health and safety behaviors. Dominance and relative weights analysis will be used as the data analysis method to statistically rank order the importance of predictors in numerous regression contexts. Safety proactive and safety compliance will serve as the dependent variables in these regression analyses, with the organizational and personal characteristics as independent variables.

Findings will be used to improve the safety and health organizational values and focus of mine organizations, as executed through their health and safety management system for mitigating health and safety risks at their mine site. Specifically, if organizations are lacking in values that are of high importance among employees, site leadership knows where to focus new, innovative methods, techniques, and approaches to dealing with their occupational safety and health problems. Finally, the data can be directly compared to data from other mine organizations that are administered the same standardized methods to provide broader context for areas in which the mining industry can focus more attention if trying to encourage safer work behavior.

Estimated Annualized Burden Hours
Type of respondent | Form name | Number of respondents | Number of responses per respondent | Average burden per response (in hours) | Total burden hours
Safety/health Mine Operator | Mine Recruitment Script | 10 | 1 | 5/60 | 1
Mine Worker | Individual Miner Recruitment Script | 266 | 1 | 5/60 | 22
Mine Worker | Survey | 266 | 1 | 15/60 | 67
Total |  |  |  |  | 90

Leroy A. Richardson,
Chief, Information Collection Review Office, Office of Scientific Integrity, Office of the Associate Director for Science, Office of the Director, Centers for Disease Control and Prevention.

[FR Doc. 2014-24880 Filed 10-17-14; 8:45 am]

BILLING CODE 4163-18-P